DEPARTMENT OF THE INTERIOR

Fish and Wildlife Service

[FWS-R4-ES-2015-N086; 40120-1112-0000-F2]

Receipt of Applications for Endangered Species Permits

AGENCY: Fish and Wildlife Service, Interior.

ACTION: Notice.

SUMMARY: We, the U.S. Fish and Wildlife Service, invite the public to comment on the following applications to conduct certain activities with endangered species. With some exceptions, the Endangered Species Act (ESA) prohibits activities with listed species unless a Federal permit is issued that allows such activities. The ESA requires that we invite public comment before issuing these permits.

DATES: We must receive written data or comments on the applications at the address given below by September 14, 2015.

ADDRESSES: Documents and other information submitted with the applications are available for review, subject to the requirements of the Privacy Act and Freedom of Information Act, by any party who submits a written request for a copy of such documents to the following office within 30 days of the date of publication of this notice: U.S. Fish and Wildlife Service, 1875 Century Boulevard, Suite 200, Atlanta, GA 30345 (Attn: James Gruhala, Permit Coordinator).

FOR FURTHER INFORMATION CONTACT: James Gruhala, 10(a)(1)(A) Permit Coordinator, telephone 404-679-7097; facsimile 404-679-7081.

SUPPLEMENTARY INFORMATION: The public is invited to comment on the following applications for permits to conduct certain activities with endangered and threatened species under section 10(a)(1)(A) of the Endangered Species Act of 1973, as amended (16 U.S.C. 1531 et seq.), and our regulations in the Code of Federal Regulations (CFR) at 50 CFR 17. This notice is provided under section 10(c) of the Act.

If you wish to comment, you may submit comments by any one of the following methods. You may mail comments to the Fish and Wildlife Service's Regional Office (see ADDRESSES section) or send them via electronic mail (email) to permitsR4ES@fws.gov. Please include your name and return address in your email message. If you do not receive a confirmation from the Fish and Wildlife Service that we have received your email message, contact us directly at the telephone number listed above (see FOR FURTHER INFORMATION CONTACT). Finally, you may hand-deliver comments to the Fish and Wildlife Service office listed above (see ADDRESSES).

Before including your address, telephone number, email address, or other personal identifying information in your comments, you should be aware that your entire comment—including your personal identifying information—may be made publicly available at any time. While you can ask us in your comments to withhold your personal identifying information from public review, we cannot guarantee that we will be able to do so.

Permit Applications

Permit Application Number: TE 125557-2

Applicant: Barbara Allen, Mobile, Alabama

The applicant requests renewal of her current permit to take (monitor, excavate, temporarily retain nestlings, release nestlings) green (Chelonia mydas), Kemp's ridley (Lepidochelys kempi), and loggerhead (Caretta caretta) sea turtles for the purpose of monitoring and protecting nests in Mobile and Baldwin Counties, Alabama.

Permit Application Number: TE 68773B

Applicant: Olivia Munzer, Cardno, Inc., Raleigh, North Carolina

The applicant requests a permit to take (mist-net, harp trap, handle, band, and outfit with radio transmitters) Indiana bat (Myotis sodalis), northern long-eared bat (Myotis septentrionalis), gray bat (Myotis grisescens), Ozark big-eared bat (Corynorhinus townsendii ingens), Virginia big-eared bat (Corynorhinus townsendii virginianus) and the Florida bonneted bat (Eumops floridanus) for the purpose of conducting presence/absence surveys throughout the species respective range.

Permit Application Number: TE 079863-3

Applicant: Michael Gangloff, Boone, North Carolina

The applicant requests renewal of his current permit to take (hand collecting via wading and snorkeling, handle, non-lethal tissue clipping, releasing and translocating) 93 federally listed mollusks for the purpose of presence and absence surveys in the states of Alabama, Georgia, Florida, Mississippi, Kentucky, North Carolina, South Caroline, Tennessee, and Virginia.

Permit Application Number: TE 088035-1

Applicant: Hilary Swain, Archibald Expeditions, Venus, Florida

The applicant requests renewal of her current permit to take (destroy, remove, harass, restore, and research) the endangered Florida perforate cladonia (Cladonia perforata), scrub mint (Dicerandra frutescens), snakeroot (Eryngium cunefolium), Highland's scrub hypericum (Hypericum cumulicola), scrub blazingstar (Liatris ohlingerae), Britton's beargrass (Nolina brittoniana), wireweed (Polygonella basiramia), sandlace (Polygonella myriophylla), scrub plum (Prunus geniculata), Carter's mustard (Warea carteri), pigeon wings (Clitoria fragrans), scrub buckwheat (Eriogonum longifolium gnaphalifolium), and papery whitlow-wort (Paronychia chartacea) for the purpose of conducting prescribed burns for habitiat management, in the state of Florida.

Permit Application Number: TE 69912B-0

Applicant: John Mikos, Biotech Consulting Inc., Orlando, Florida

The applicant requests a permit to take (capture with live traps, handle, identify, and release) the federally listed Southeastern beach mouse (Peromyscus polionolus niveiventris), Perdido Key Beach Mouse (Peromyscus polionotus trissyllepsis), Choctawhatchee beach mouse (Peromyscus polionotus allophrys), and Anastasia Island beach mouse (Peromyscus polioinotus phasma) for the purpose of conducting presence/absence surveys in the state of Florida.

Permit Application Number: TE 040792-4

Applicant: Thomas Mims, United States Forest Service, New Ellenton, South Carolina

The applicant requests a permit to take (translocate, capture, mark, band, and monitor populations and nest cavities) the federally endangered red-cockaded woodpecker (Picoides borealis) for the purpose of attaining a viable population of the species in the states of Arkansas, Florida, Georgia, Louisiana, Mississippi, North Carolina, and South Carolina.

Dated: August 7, 2015.
Leopoldo Miranda,
Assistant Regional Director—Ecological Services, Southeast Region.

[FR Doc. 2015-20061 Filed 8-13-15; 8:45 am]

BILLING CODE 4310-55-P